DEPARTMENT OF ENERGY

Federal Energy Regulatory Commission

[Docket No. IC22-2-000]

Commission Information Collection Activities (Ferc-546) Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-546, (Certificated Rate Filings: Gas Pipeline Rates), which will be submitted to the Office of Management and Budget (OMB) for review.

DATES: Comments on the collection of information are due February 28, 2022.

ADDRESSES: Send written comments on FERC-546 to OMB through www.reginfo.gov/public/do/PRAMain. Attention: Federal Energy Regulatory Commission Desk Officer. Please identify the OMB Control Number (1902-0155) in the subject line of your comments. Comments should be sent within 30 days of publication of this notice to www.reginfo.gov/public/do/PRAMain.

Please submit copies of your comments to the Commission. You may submit copies of your comments (identified by Docket No. IC22-2-000) by one of the following methods: Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

1. FERC-546

Title: FERC-546, Certificated Rate Filings: Gas Pipeline Rates.

OMB Control No.: 1902-0155.

Type of Request: Three-year extension of the FERC-546 information collection requirements with no changes to the current reporting requirements. There were no comments received on the 60-day comment period (86 FR 63010).

Abstract: The Commission reviews the FERC-546 materials to decide whether to approve rates and tariff changes associated with an application for a certificate under Natural Gas Act (NGA) section 7(c) (15 U.S.C. 717f(c)). Additionally, FERC reviews FERC-546 materials in storage applications under NGA section 4(f) (15 U.S.C. 717c(f)), to evaluate an applicant's market power and determine whether to grant market-based rate authority to the applicant. The Commission uses the information in FERC-546 to monitor jurisdictional transportation, natural gas storage, and unbundled sales activities of interstate natural gas pipelines and Hinshaw ¹ pipelines. In addition to fulfilling the Commission's obligations under the NGA, the FERC-546 enables the Commission to monitor the activities and evaluate transactions of the natural gas industry, ensure competitiveness, and improve efficiency of the industry's operations. In summary, the Commission uses the information to:

¹ Hinshaw pipelines are those that receive all out-of-state gas from entities within or at the boundary of a state if all the natural gas so received is ultimately consumed within the state in which it is received, 15 U.S.C. 717(c). Congress concluded that Hinshaw pipelines are “matters primarily of local concern,” and so are more appropriately regulated by pertinent state agencies rather than by FERC. The Natural Gas Act section 1(c) exempts Hinshaw pipelines from FERC jurisdiction. A Hinshaw pipeline, however, may apply for a FERC certificate to transport gas outside of state lines.

• Ensure adequate customer protections under NGA section 4(f);

• review rate and tariff changes filed under NGA section 7(c) for certification of natural gas pipeline transportation and storage services;

• provide general industry oversight; and

• supplement documentation during the pipeline audits process.

Failure to collect this information would prevent the Commission from monitoring and evaluating transactions and operations of jurisdictional pipelines and performing its regulatory functions.

Type of Respondents: Jurisdictional pipeline companies and storage operators.

Estimate of Annual Burden: ² The Commission estimates the burden and cost for this information collection as follows:

² “Burden” is the total time, effort, or financial resources expended by persons to generate, maintain, retain, or disclose or provide information to or for a Federal agency. For further explanation of what is included in the information collection burden, refer to Title 5 Code of Federal Regulations 1320.3.

FERC-546 (Certificated Rate Filings: Gas Pipeline Rates)
| Annual number of respondents | Annual number of responses per respondent | Total number of responses (rounded) | Average burden & cost per response ³ (rounded) | Total annual burden hours & total annual cost (rounded) | Cost per respondent ($) (rounded)
| (1) | (2) | (1) * (2) = (3) | (4) | (3) * (4) = (5) | (5) ÷ (1)
Pipeline Certificate Filings and Storage Applications | 47 | ⁴ 1.595 | 74.965 | 500 hrs.; $41,652 | 37,482.50 hrs.; $3,122,442.18 | $66,434.94

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The hourly cost (for salary plus benefits) uses the figures from the Bureau of Labor Statistics, June 2021, for positions involved in the reporting and recordkeeping requirements. These figures include salary (https://www.bls.gov/oes/current/naics2_22.htm) and benefits http://www.bls.gov/news.release/ecec.nr0.htm) and are:

Electrical Engineer (Occupation Code: 17-2071; $72.15/hour)

Management Analyst (Occupation Code: 13-1111; $68.39/hour)

Accounting (Occupation Code: 13-2011; $57.41/hours)

Computer and Mathematical (Occupation Code: 15-0000; $65.73/hour)

Legal (Occupation Code: 23-0000; $142.25/hour)

The average hourly cost (salary plus benefits) is calculated weighting each of the previously mentioned wage categories as follows: $72.15/hour (0.4) + $68.39/hour (0.2) + $57.41/hour (0.1) + $65.73/hour (0.1) + $142.25/hour (0.2) = $83.304/hour. The Commission rounds this figure to $83/hour.

⁴ This figure was calculated by dividing the total number of responses (1.595) by the total number of respondents (47). The resulting figure was then rounded to the nearest thousandth place.

Dated: January 21, 2022.
Kimberly D. Bose,
Secretary.

[FR Doc. 2022-01684 Filed 1-27-22; 8:45 am]

BILLING CODE 6717-01-P